DEPARTMENT OF ENERGY

Federal Energy Regulatory Commission

[Docket No. RM00-12-000]

Electronic Filing of Documents; Notice of New Release and Additional Qualified Documents for Electronic Filing

December 6, 2002.

1. Take notice that on Saturday, December 7, 2002, the Commission will upgrade its electronic filing system to Release 4.0 and begin accepting additional types of documents for filing via the Internet in lieu of paper copies. Release 4.0 also contains several notable system enhancements.

2. New Qualified Documents in Release 4.0: Order No. 619,¹ authorized the Secretary of the Commission to issue and amend a list of qualified documents that, at the filer's option, may be submitted via the Internet without also filing paper copies.² In Release 4.0 of the electronic filing system, the following additional documents are “qualified documents” for the purposes of electronic filing:

¹ III FERC Stats. & Regs., Regulations Preambles ¶ 31,107.

² 18 CFR 385.2003(c)(2), 65 FR 57088.

a. General Filings in Docketed Proceedings:

i. Briefs.

ii. Interlocutory Appeals: Motions and Answer/Responses.

iii. Request for Change in Service List

iv. Withdrawal of Application.

b. Filings Specific to the Electric Industry:

i. Accounting Filing or Request.

ii. Annual Charges Report.

iii. Complaint.

iv. Qualifying Facility Notice of Self-Certification.

v. Qualifying Facility Notice of Self-Recertification.

c. Filings Specific to the Natural Gas Industry:

i. Accounting Filing or Request.

ii. Complaint.

iii. Peak Day Capacity Report.

iv. Semi-Annual Storage Report Under part 157.

v. Semi-Annual Storage Report Under part 284.

d. Filings Specific to the Oil Pipeline Industry:

i. Accounting Filing or Request.

ii. Complaint.

e. Filings Specific to Hydropower projects:

i. Annual Conveyance Report.

ii. Annual Generation Report.

iii. Complaint.

iv. Progress Report.

3. Attachment A to this notice contains a complete list of all qualified documents and a description of each filing type.

4. Qualified documents may be combined and submitted in the same document. For example, a motion to intervene may also include comments and/or a protest in the same document and be eligible for filing via the Internet.

5. Non-qualified documents may not be included in an electronic submission with other qualified documents. For example, an Electric Rate Compliance Filing may not be electronically filed together with or under the filing type “Compliance Electric Refund Report”.

6. Release 4.0 Enhancements: Release 4.0 of the Electronic Filing System contains the following enhancements:

f. Multiple file submission: Filers may now select and submit up to five unzipped files with a maximum file size of 10 Mb per file. The files may also be submitted in .zip file format, provided that the total number of unzipped files does not exceed five files. The File Upload screen allows the filer to select, review, and attach up to five files per submission. The screens also provides for deleting and replacing files, as well as ordering them in the proper sequence for filing.

For multiple file submissions, the first (text) file should include a list of the additional files to be submitted with a brief description of the contents of each file.

g. Filings Requiring a New Docket or Subdocket Number(s): Certain of the new “qualified documents” for e-filing require a new docket number. The filer will not see the Docket Entry screen for these filings. The FERC Dockets Staff will assign the new docket number and initiate a service list. The new docket number will appear in the Notice of Acceptance e-mail that is sent to the filer after Dockets reviews the submission. As with previous releases, the Dockets staff will assign a new subdocket number to your submission if one is required.

h. Additional file formats: The multiple file submission feature will enable filers to include one or more attachments to the Microsoft Word (.doc), Corel WordPerfect (.wpd), Adobe Portable Document Format (.pdf), ASCII (.txt), or Rich Text Format (.rtf) text file, in one or more of the following formats:

i. Microsoft Excel (.xls, .xlb).

ii. Lotus (.wk1, .wk3, .wk4).

iii. Microsoft PowerPoint (.ppt, .pps).

iv. Zipped files, provided that the total number of unzipped files does not exceed five files and each unzipped file does not exceed 5 Mb (.zip).

v. Graphic Interchange Format (.gif).

vi. Joint Photographic Experts Group (.jpg).

vii. Moving Picture Experts Group (.mpg).

i. Filing Type Selection: The menu for selecting the filing type has been revised and is arranged according to filings common to all program areas and those that are specific to the electric, natural gas, oil, or hydropower programs.

7. We are revising the User Guide to reflect the additions to the qualified documents list. The guide contains the instructions for electronic submission and provides more detail on the system enhancements. The User Guide is accessible via the eFiling link at www.ferc.gov.

8. If you have questions about this notice or the new release for electronic filing, please contact Brooks Carter at (202) 502-8145or by e-mail at brooks.carter@ferc.gov.

Magalie R. Salas,
Secretary.

Attachment A—Complete List of Qualified Documents for Electronic Filing (Effective December 4, 2002)

For multiple file submissions, the first (text) file should include a list of the additional files to be submitted with a brief description of the contents of each file. There is a maximum of five unzipped files per submission.

1. Filings Common to Docketed Proceedings in All or Most Program Areas:

Answer/Response to a Pleading/Motion: An answer (18 CFR 385.213) may be made to any pleading (18 CFR 385.202) except a protest, answer, motion for oral argument, or request for rehearing. Select Response to Complaint if you are responding to a complaint or show cause order.

Briefs/Statement of Position: Any brief filed before (Rule 706) or after (Rule 711) an initial decision (18 CFR 385.706 and 385.711).

Comment on Filing: Comments on Filing is a document filed in response to a FERC public notice or order in a specific FERC docketed proceeding (any docket prefix except RM). It may include a protest. This filing type does not add contact names to the service list. You must select Motion/Notice of Intervention (or Motion to Intervene Out-of-Time) to be included on the service list for a docket. Comment on Filing includes:

a. Comments on applications and other filings.

b. Comments on technical conferences

c. Comments filed in connection with environmental documents (Notices, Environmental Assessments, and Environmental Impact Statements) (18 CFR 380.10(a))

d. Protests ³ and responses to certain protests ⁴.

³ 18 CFR 385.211 and 18 CFR 343.3 (see also 18 CFR 4.5, 4.13, 4.23, 35.8(a), 154,210(a), 157.10, and 157.205(e)).

⁴ 18 CFR 343.3(b).

e. Reply comments.

f. Mandatory and recommended terms and conditions or prescriptions on a hydropower application for exemption or license.

Interlocutory Appeal—Motion: Motions to the presiding officer in a proceeding to permit appeal of a ruling by the presiding officer (18 CFR 385.715(b)) or an appeal of a presiding officer's denial of a motion to permit appeal (18 CFR 385.715(c)).

Interlocutory Appeal—Response: Responses to a Motion to Permit Interlocutory Appeal (18 CFR 385.213(a)(2) and (a)(3).

Motion to Compel Production: A motion to compel production is a petition or request for an order directing another party in a proceeding to produce documents and records in discovery (18 CFR 385.410(b)).

Motion to Intervene Out of Time: Motion to intervene out of time is a pleading filed with the Commission by a party requesting permission for intervenor status after the deadline for filing has passed (18 CFR 385.214(b)(3)).

Motion/Notice of Intervention: Motion/notice of intervention is a pleading filed with the Commission by a party requesting intervenor status (legal basis to participate in proceeding). The motion or notice may also include comments, a protest, or other pleading.⁵

⁵ 18 CFR 385.214, 385.1306 (See also 18 CFR 35.8(a), 154.210(a) and (b), 157.210, 157.106, 343.2(a), and 380.10).

Objection to Motion to Compel Production: An objection to a motion to compel production is a pleading by the respondent named in a motion to compel production stating the basis for objection to producing the requested documents and records (18 CFR 385.410).

Procedural Motion: A procedural motion is a pleading by any party to a proceeding before an Administrative Law Judge or the Commission concerning the scope, procedures, or schedule established by the presiding judge or by FERC's rules of procedure (18 CFR 385.212).

Production of Document: This is a transmittal letter advising the Commission that documents or records have been provided to the requesting party, or as directed by the presiding officer, in the discovery phase of a proceeding (18 CFR 385.406).

Request for Change in Service List: A request to make a change to the service list for specific dockets. The change may be to revise a contact or information about a contact.

Request for Hearing: A request for hearing is a motion to the Commission that a matter within the jurisdiction of the Commission be set for hearing.

Request for Rehearing or Appeal: A request of rehearing or appeal is a pleading by any party to a proceeding before the Commission petitioning the Commission to reconsider an order in that proceeding; includes Motions for Clarification (18 CFR 385.713 and 18 CFR 385.715). There are statutory deadlines for filing requests for rehearing. Be advised that the Commission cannot waive these deadlines.

Response to Complaint: Any respondent to a complaint or order to show cause must make an answer, unless the Commission directs otherwise (18 CFR 385.206(f) and 385.213(a)).

Rulemaking Comment: Rulemaking comment is a document filed in response to a Notice of Inquiry or Notice of Proposed Rulemaking issued by the Commission (RM docket prefix only; 18 CFR 385.1903 and 18 CFR 380.10(b)).

Settlement Comment: Settlement comment is a document prepared by any party to a proceeding before the Commission that sets forth the views and position of the party on a proposed agreement or settlement to resolve any of the issues in dispute (18 CFR 385.602(f)).

Withdrawal of Application: A request to withdraw an application or other pleading previously filed with the Commission.

Withdrawal of Intervention: Withdrawal of intervention is a request by a party to a proceeding (one who has been granted intervenor status) to withdraw from that proceeding (18 CFR 385.216).

2. Filings Specific to Electric Program Area:

Accounting Filing or Request: Any request for approval of accounting procedures or a filing related to accounting issues.

Annual Charges Report: FERC Reporting Requirement No. 582: The report due annually by April 30 that must be filed by a public utility, as defined in § 382.102(b), on transmission of electric energy in interstate commerce, for the purpose of computing annual charges (18 CFR 382.201(c)).

Complaint: Any complaint under Rule 206 that does not include privileged (non-public) information (18 CFR 385.206). Answers to complaints should also be filed under this category within 20 days of date the complaint is filed (18 CFR 385.206(f).

Electric Quarterly Report: The Electric Quarterly Report is filed by all jurisdictional utilities, listing all contracts in effect and all power sales made during the previous quarter, as required by Order 2001.

Electric Refund Report (Compliance Only): A report of refund of any increased rates or charges either found by the Commission not to be justified, or approved for refund by the Commission as part of a settlement.

Qualifying Facility Notice of Self-Certification: Notice of self certification as a qualifying facility filed by a small power production facility or cogeneration facility that meets the requirements of 18 CFR 292.203 [18 CFR 292.207 and 131.80 (Form 556)].

Qualifying Facility Notice of Self-Recertification: A subsequent notice of self-recertification as a qualifying facility filed by a small power production facility or cogeneration facility (18 CFR 292.207).

3. Natural Gas Program Area Filings:

Accounting Filing or Request: Any request for approval of accounting procedures or a filing related to accounting issues.

Complaint: Any complaint under Rule 206 that does not include privileged (non-public) information (18 CFR 385.206). Answers to complaints should also be filed under this category within 20 days of date the complaint is filed (18 CFR 385.206(f).

Peak Day Capacity Report: A report of available capacity filed by an interstate pipeline by March 1 each year, showing the estimated peak day capacity of the pipeline's system, and the estimated storage capacity and maximum daily delivery capability of storage facilities and the assignment of that capacity to the various firm services provided by the pipeline (18 CFR 284.13(d)).

Semi-Annual Storage Report Under part 157: Reports of storage activity filed by interstate pipelines for facilities under a blanket certificate or a certificate of public convenience and necessity (18 CFR 157.214; docket number known)

Semi-Annual Storage Report Under part 284: Reports of storage activity by interstate pipelines (18 CFR 284.13) and intrastate pipelines (18 CFR 284.126) filed at the end of each complete storage injection and withdrawal season (no docket number).

4. Oil Pipeline Program Area Filings:

Accounting Filing or Request: Any request for approval of accounting procedures or a filing related to accounting issues.

Complaint: Any complaint under Rule 206 that does not include privileged (non-public) information (18 CFR 385.206). Answers to complaints should also be filed under this category within 20 days of date the complaint is filed (18 CFR 385.206(f).

5. Hydropower Program Area Filings:

Annual Conveyance Report: A report filed by the licensee of a hydropower project, if required by its license, of conveyances of easements or rights-of-way across, or leases of, project lands that occurred in the previous year (18 CFR 141.15).

Annual Generation Report: A report filed by licensees of hydropower projects of more than 1.5 megawatts of installed capacity to enable the Commission to determine annual charges (18 CFR 11.1(c)(4)).

Complaint: Any complaint under Rule 206 that does not include privileged (non-public) information (18 CFR 385.206). Answers to complaints should also be filed under this category within 20 days of date the complaint is filed (18 CFR 385.206(f)).

Progress Report: Progress reports filed by a hydropower project licensee or preliminary permit holder in accordance with a license or preliminary permit requirement (file under 000 sub-docket for the project).

Request for Extension of Time (Hydro: Post-Licensing Only, Excluding Dam Safety-Related Extension Requests): Requests for extension of time to comply with filing schedules defined in the terms and conditions of a license or exemption and (e.g., requests to extend due dates in license articles and settlement agreements incorporated into a license) and requests to extend due dates specified in postlicensing Commission and delegated orders.

Surrender of Exemption: Application filed requesting surrender of a conduit exemption (18 CFR 4.95) or for a 5MW exemption (18 CFR 4.102).

Surrender of License: Application filed requesting surrender of a license (18 CFR 6.1).

Surrender of Preliminary Permit: Petition requesting surrender of a preliminary permit (18 CFR 4.84).

[FR Doc. 02-31317 Filed 12-11-02; 8:45 am]

BILLING CODE 6717-01-P